DEPARTMENT OF STATE

[Public Notice: 9983]

U.S. Department of State Advisory Committee on Private International Law (ACPIL): Public Meeting on Security Interests

The Office of the Assistant Legal Adviser for Private International Law, Department of State, hereby gives notice that the Security Interests Study Group of the Advisory Committee on Private International Law (ACPIL) will hold a public meeting. The Security Interests Study Group will hold the meeting to discuss several matters relating to security interests that will be addressed at the upcoming annual meeting of the United Nations Commission on International Trade Law (“UNCITRAL” or “Commission”) scheduled for July 3 through 21 in Vienna. This is not a meeting of the full Advisory Committee.

At its upcoming session the Commission will consider several items relating to security interests. First, the Commission will consider finalization and adoption of a Guide to Enactment of the UNCITRAL Model Law on Secured Transactions (A/CN.9/885 and Add.1-4). Second, the Commission will consider possible future work in the area of secured transactions. The Commission has placed on its security interests future work program: (a) The question whether the UNCITRAL Model Law on Secured Transactions and its guide to enactment might need to be expanded to address matters related to secured finance to Micro, Small, and Medium-Sized Enterprises (MSMEs); (b) the question whether any future work on a contractual guide on secured transactions should discuss contractual issues of concern to MSMEs (e.g. transparency issues); (c) any question that might not have already been addressed in the area of warehouse receipt financing (e.g. the negotiability of warehouse receipts); and (d) the question whether disputes arising from security agreements could be resolved through alternative dispute resolution mechanisms. These and other possible future work topics relating to security interests were considered at a Fourth International Colloquium on Secured Transactions in March. The Commission will have before it a Note by the Secretariat summarizing the results of the colloquium (A/CN.9/913). Finally, the Commission will have before it the question of the endorsement of the ICC Uniform Rules for Forfaiting (URF 800) (A/CN.9/919). The Commission documents will be available at http://www.uncitral.org/uncitral/commission/sessions/50th.html.

Time and Place: The meeting of the ACPIL Security Interest Study Group will take place on June 6, 2017 from 9 a.m. to 12:30 p.m. EDT at 2430 E Street NW., South Building (SA-4A) (Navy Hill), Room 240. Participants should arrive at Navy Hill before 8:45 a.m. for visitor screening. Participants will be met at the Navy Hill gate at 23rd and D Streets NW., and will be escorted to the South Building. Persons arriving later will need to make arrangements for entry using the contact information provided below. If you are unable to attend the public meeting and would like to participate from a remote location, teleconferencing will be available.

Public Participation: This meeting is open to the public, subject to the capacity of the meeting room. Access to Navy Hill is strictly controlled. For preclearance purposes, those planning to attend in person are requested to email at PIL@state.gov providing full name, address, date of birth, citizenship, driver's license or passport number, affiliation, and email address. This will greatly facilitate entry. A member of the public needing reasonable accommodation should provide an email requesting such accommodation to pil@state.gov no later than May 30, 2017. Requests made after that date will be considered, but might not be able to be fulfilled. If you would like to participate by telephone, please email PIL@state.gov to obtain the call-in number and other information. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://foia.state.gov/_docs/SORN/State-36.pdf for additional information.

Michael J. Dennis,
Attorney-Adviser, Office of Private International Law, Office of the Legal Adviser, Department of State.

[FR Doc. 2017-08804 Filed 5-1-17; 8:45 am]

BILLING CODE 4710-08-P